DEPARTMENT OF THE INTERIOR

Fish and Wildlife Service

[Docket No. FWS-HQ-IA-2016-0058; FXIA16710900000-156-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before May 9, 2016.

ADDRESSES: Submitting Comments: You may submit comments by one of the following methods:

• Federal eRulemaking Portal: http://www.regulations.gov. Follow the instructions for submitting comments on Docket No. FWS-HQ-IA-2016-0058.

• U.S. mail or hand-delivery: Public Comments Processing, Attn: Docket No. FWS-HQ-IA-2016-0058; U.S. Fish and Wildlife Service Headquarters, MS: BPHC; 5275 Leesburg Pike, Falls Church, VA 22041-3803.

When submitting comments, please indicate the name of the applicant and the PRT# you are commenting on. We will post all comments on http://www.regulations.gov. This generally means that we will post any personal information you provide us (see the Public Comments section below for more information). Viewing Comments: Comments and materials we receive will be available for public inspection on http://www.regulations.gov, or by appointment, between 8 a.m. and 4 p.m., Monday through Friday, except Federal holidays, at the U.S. Fish and Wildlife Service, Division of Management Authority, 5275 Leesburg Pike, Falls Church, VA 22041-3803; telephone 703-358-2095.

FOR FURTHER INFORMATION CONTACT: Brenda Tapia, (703) 358-2104 (telephone); (703) 358-2281 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

Endangered Species

Applicant: Bhagavan Antle, Myrtle Beach, SC; PRT-71654B

On September 30, 2015, we published a Federal Register notice inviting the public to comment on an application for a permit to conduct certain activities with endangered species (80 FR 58768). We are now reopening the comment period to allow the public the opportunity to review additional information submitted for their permit to export 18 captive-born tigers (Panthera tigris) for the purpose of enhancement of the survival of the species to Cancun, Puerto Morelos, Quintana Roo, Mexico.

Applicant: University of Washington, Seattle, WA; PRT-80987B

The applicant requests a permit to import biological samples from black rhinoceros (Diceros bicornis) collected in the wild in South Africa, for the purpose of scientific research.

Applicant: Wade Harrell, Whooping Crane Recovery Plan Coordinator, U.S. Fish and Wildlife Service, Region 2, Austwell, TX; PRT-013808

The applicant requests renewal of a permit to import captive-bred/captive-hatched and wild live specimens, captive-bred/wild-collected viable eggs, biological samples, and salvaged materials from captive-bred/wild specimens of whooping cranes (Grus americana) from Canada, for completion of identified tasks and objectives mandated under the Service Whooping Crane Recovery Plan. Salvage materials may include, but are not limited to, whole or partial specimens, feathers, eggs and egg shell fragments. This notification covers activities to be conducted by the applicant over a 5-year period.

Applicant: Peter Stein, South Windsor, CT; PRT-165944

The applicant requests amendment of their captive-bred wildlife registration under 50 CFR 17.21(g) for the following species: Spotted pond turtle (Geoclemys hamiltonii), Bolson tortoise (Gopherus flavomarginatus), yellow-spotted river turtle (Podocnemis unifilis), and aquatic box turtle (Terrapene coahuila) to enhance the species' propagation or survival. The notification covers activities to be conducted by the applicant over the remainder of the 5-year period for which the permit would be valid.

Applicant: Claws “N” Paws Wild Animal Park, Lake Ariel, PA; PRT-66990B

The applicant requests a captive-bred wildlife registration under 50 CFR 17.21(g) for the following species to enhance species propagation or survival: Lar gibbon (Hylobates lar), ring-tailed lemur (Lemur catta), black and white ruffed lemur (Varecia variegata variegata), snow leopard (Uncia uncia), leopard (Panthera pardus), and cottontop tamarin (Saguinus Oedipus). This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: Aubrey Beacham, Gulfport, MS; PRT-91319B

Applicant: Wayne Catto, Gahanna, OH; PRT-91923B

Applicant: Roger Hooten, Emory, TX; PRT-92092B

Brenda Tapia,
Program Analyst/Data Administrator, Branch of Permits, Division of Management Authority.

[FR Doc. 2016-08016 Filed 4-7-16; 8:45 am]

BILLING CODE 4333-15-P